DEPARTMENT OF EDUCATION

34 CFR Chapter III

[CFDA Number: 84.133B-7]

Final Priority; National Institute on Disability and Rehabilitation Research—Disability and Rehabilitation Research Projects and Centers Program—Rehabilitation Research Training Centers

AGENCY: Office of Special Education and Rehabilitative Services, Department of Education.

ACTION: Final priority.

SUMMARY: The Assistant Secretary for Special Education and Rehabilitative Services announces a priority for a Rehabilitation Research Training Center (RRTC) on Disability Statistics and Demographics under the Disability and Rehabilitation Research Projects and Centers program administered by the National Institute on Disability and Rehabilitation Research (NIDRR). The Assistant Secretary may use this priority for a competition in fiscal year (FY) 2013 and later years. We take this action to focus research attention on areas of national need. We intend to use this priority to improve outcomes for individuals with disabilities.

DATES: Effective Date: This priority is effective June 19, 2013.

FOR FURTHER INFORMATION CONTACT: Marlene Spencer, U.S. Department of Education, 400 Maryland Avenue SW., Room 5133, Potomac Center Plaza (PCP), Washington, DC 20202-2700. Telephone: (202) 245-7532 or by email: marlene.spencer@ed.gov.

If you use a telecommunications device for the deaf (TDD) or a text telephone (TTY), call the Federal Relay Service (FRS), toll free, at 1-800-877-8339.

SUPPLEMENTARY INFORMATION: This notice of final priority is in concert with NIDRR's Long-Range Plan for Fiscal Years 2013-2017 (Plan). The Plan, which was published in the Federal Register on April 4, 2013 (78 FR 20299), can be accessed on the Internet at the following site: http://www.gpo.gov/fdsys/pkg/FR-2013-04-04/html/2013-07879.htm.

Through the implementation of the Plan, NIDRR seeks to improve the health and functioning, employment, and community living and participation of individuals with disabilities through comprehensive programs of research, engineering, training, technical assistance, and knowledge translation and dissemination. The Plan reflects NIDRR's commitment to quality, relevance, and balance in its programs to ensure that appropriate attention is paid to all aspects of the well-being of individuals with disabilities and to all types and degrees of disability, including individuals with low incidence and severe disabilities.

This notice announces a priority that NIDRR intends to use for an RRTC competition in FY 2013 and possibly later years. However, nothing precludes NIDRR from publishing additional priorities, if needed. Furthermore, NIDRR is under no obligation to make an award for this priority. The decision to make an award will be based on the quality of applications received and available funding.

Purpose of Program: The purpose of the Disability and Rehabilitation Research Projects and Centers Program is to plan and conduct research, demonstration projects, training, and related activities, including international activities, to develop methods, procedures, and rehabilitation technologies that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers (RRTCs)

The purpose of the RRTCs, which are funded through the Disability and Rehabilitation Research Projects and Centers Program, is to achieve the goals of, and improve the effectiveness of, services authorized under the Rehabilitation Act through advanced research, training, technical assistance, and dissemination activities in general problem areas, as specified by NIDRR. These activities are designed to benefit rehabilitation service providers, individuals with disabilities, and the family members or other authorized representatives of individuals with disabilities. Additional information on the RRTC program can be found at: www.ed.gov/rschstat/research/pubs/res-program.html#RRTC.

Program Authority: 29 U.S.C. 762(g) and 764(b)(2).

Applicable Program Regulations: 34 CFR part 350.

We published a notice of proposed priority (NPP) for this program in the Federal Register on February 21, 2013 (78 FR 12002). That notice contained background information and our reasons for proposing the priority.

Public Comment: In response to our invitation in the NPP, nine parties submitted comments on the proposed priority.

Generally, we do not address technical and other minor changes.

Analysis of Comments and Changes: An analysis of the comments and of any changes in the priority since publication of the notice of proposed priority follows.

Comment: One set of commenters recommended that NIDRR include an additional requirement that the RRTC collect and analyze market-oriented information about the use of assistive and accessible technologies by individuals with disabilities. These commenters noted that such information would provide technology developers, service providers, and other stakeholders with information about the number of users of specific assistive technology products or the size of the potential market for specific technology accessibility features. The commenters suggested that the RRTC be required to collect and analyze data on the number of individuals with disabilities who experience specific barriers to the use of assistive technologies and products and to generate new solutions to those barriers.

Discussion: This priority requires the applicant to propose and justify statistical research yielding important information about the status and well-being of individuals with disabilities. Under paragraph (a), applicants may choose to focus a portion of their data-quality improvement activities in the area of technology use, as suggested by the commenters. However, we do not want to limit the number and breadth of applications that are submitted by requiring all applicants to focus their activities on the collection and analysis of data about use of assistive and accessible technologies by individuals with disabilities. Furthermore, under the requirements in paragraph (b)(iii) of the priority, and to the extent that data on this topic are available, the RRTC may consult with stakeholders and provide specialized analyses if requested.

Changes: None.

Comment: Two commenters noted that the outcomes of individuals with disabilities are a function of the interaction between the individual and the physical, social, and economic environments in which he or she lives. These commenters remarked that disability statistics are typically collected and analyzed at the individual level and therefore do not reflect the role that the environment plays in producing outcomes. These commenters recommended that NIDRR modify the priority to require the RRTC to engage in research on improved measurement and collection of data about the environments in which individuals with disabilities live.

Discussion: NIDRR agrees with the commenters' broad point that outcomes are a function of the interaction between the individual with a disability and the environment in which he or she lives. We also agree that research is needed to improve the ability of the disability and rehabilitation research field to measure environmental barriers to optimal outcomes for individuals with disabilities. However, requiring the RRTC to engage in the specific research suggested by the commenters is beyond the intended scope of the RRTC funded under this priority. While nothing in the priority precludes applicants from analyzing and reporting on existing data about the environments in which people with disabilities live, or on the intersection between environments and individual characteristics that are associated with important outcomes, we do not want to limit the number and breadth of applications that are submitted under this priority by requiring all applicants to focus their activities on environmental measures.

Changes: None.

Comment: One commenter recommended that NIDRR modify the priority to require the RRTC focus on the following topics: (1) Household living arrangements of individuals with disabilities, (2) the experiences of individuals with disabilities as consumers of health care services, and (3) violence against individuals with disabilities.

Discussion: Under paragraph (a) of the priority, applicants may choose to focus a portion of their data-quality improvement activities in the areas suggested by the commenter. However, we do not want to limit the number and breadth of applications that are submitted under this priority by requiring all applicants to focus their research activities in these specific areas. In addition, the RRTC may consult with stakeholders and provide specialized analyses in these areas, under the requirements in paragraph (b)(iii) of the priority.

Changes: None.

Comment: One commenter recommended that NIDRR require the RRTC to provide disability statistics training and to guide trainees into employment related to the conduct of Federal surveys or into employment in disability policy areas where their statistics training can be well used.

Discussion: The training requirement in the opening paragraph of the priority is based directly on the Federal regulations that govern the administration of the RRTC program. Specifically, 34 CFR 350.22(b) requires RRTCs to provide training to rehabilitation personnel (so that they may provide services more effectively), and to rehabilitation research personnel (so that they may improve their capacity to conduct research). In accordance with the requirements in § 350.22(b), the RRTC funded under this priority will provide training in the area of disability statistics so that trainees will be better producers, or consumers, or both, of disability statistics. However, guiding training recipients into specific post-training professions or places of work is beyond the scope of this priority, the primary purpose of which is to advance research and training directed at improving the collection, analysis, and use of disability data.

Changes: None.

Final Priority

Rehabilitation Research and Training Center (RRTC) on Disability Statistics and Demographics

The Assistant Secretary for Special Education and Rehabilitative Services establishes a priority for an RRTC on Disability Statistics and Demographics. This RRTC must conduct research, knowledge translation, training, dissemination, and technical assistance activities to advance the use and usefulness of disability statistics and demographic data to inform disability policy and the provision of services to individuals with disabilities. Under this priority, the RRTC must be designed to contribute to the following outcomes:

(a) National disability data and statistics that are of high quality and relevant to improving the lives of individuals with disabilities. The RRTC must contribute to this outcome by conducting analyses, providing recommendations, and optimizing methodologies for conducting surveys of individuals with disabilities, including sampling techniques, and methods for appropriately interviewing and collecting data from individuals with a wide range of disabilities.

(b) Timely analyses of high-quality, relevant disability and demographic statistics to inform the development of disability policies and programs. The RRTC must contribute to this outcome by:

(i) Producing secondary analyses of national, State, and administrative data that address critical program and service needs.

(ii) Evaluating progress with regard to national goals for individuals with disabilities and their families.

(iii) Providing statistical consultation, including specialized analyses, to facilitate the appropriate use of survey and administrative data by policymakers, advocates, individuals with disabilities, and other stakeholders.

(c) Improved access to disability statistics and demographic information. The RRTC must contribute to this outcome by:

(i) Serving as a resource on disability statistics and demographics for Federal and other government agencies, policymakers, consumers, advocates, researchers, and other interested parties.

(ii) Disseminating research findings in clear and useful formats to Federal and other government agencies, policymakers, consumers, advocates, researchers, and others to enhance planning, policymaking, program administration, and delivery of services to individuals with disabilities.

(iii) Developing and disseminating an annual report on disability in the United States that includes statistics on current status and trends related to the prevalence of disabilities, and employment, health, community living, and other outcomes of importance in monitoring the well-being of individuals with disabilities.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only upon a reasoned determination that its benefits justify its costs. In choosing among alternative regulatory approaches, we selected those approaches that maximize net benefits. Based on the analysis that follows, the Department believes that this proposed priority is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Programs have been well established over the years, as projects similar to the one envisioned by the final priority have been completed successfully. Establishing new RRTCs based on the final priority will generate new knowledge through research and development and improve the lives of individuals with disabilities. The new RRTCs will generate, disseminate, and promote the use of new information that will improve the options for individuals with disabilities to fully participate in their communities.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 15, 2013.
Michael K. Yudin,
Delegated the authority to perform the functions and the duties of the Assistant Secretary for Special Education and Rehabilitative Services.

[FR Doc. 2013-11988 Filed 5-17-13; 8:45 am]

BILLING CODE 4000-01-P